DEPARTMENT OF HOMELAND SECURITY

Federal Emergency Management Agency

44 CFR Part 67

[Docket ID FEMA-2008-0020; Internal Agency Docket No. FEMA-B-1037]

Proposed Flood Elevation Determinations

AGENCY: Federal Emergency Management Agency, DHS.

ACTION: Proposed rule; correction.

SUMMARY: On March 25, 2009, FEMA published in the Federal Register a proposed rule that contained an erroneous table. This notice provides corrections to that table, to be used in lieu of the information published at 74 FR 12804. The table provided here represents the flooding sources, location of referenced elevations, effective and modified elevations, and communities affected for Livingston County, Kentucky, and Incorporated Areas. Specifically, it addresses the following flooding sources: Bayou Creek (backwater effects from Ohio River), Bayou Creek Tributary 20 (backwater effects from Ohio River), Bissell Creek (backwater effects from Ohio River), Buck Creek (backwater effects from Ohio River), Claylick Creek (backwater effects from Ohio River), Cooper Creek (backwater effects from Tennessee River), Cumberland River (backwater effects from Ohio River), Cypress Creek (backwater effects from Ohio River), Deer Creek (backwater effects from Ohio River), Dry Branch (backwater effects from Tennessee River), Dry Fork (backwater effects from Ohio River), Dyer Hill Creek (backwater effects from Ohio River), Ferguson Creek (backwater effects from Ohio River), Givens Creek (backwater effects from Ohio River), Guess Creek (backwater effects from Tennessee River), Guess Creek Tributary 9 (backwater effects from Tennessee River), Hickory Creek (backwater effects from Ohio River), Jones Creek (backwater effects from Tennessee River), Kentucky Lake, Lake Barkley, Lee Creek (backwater effects from Tennessee River), McCormick Creek (backwater effects from Ohio River), McGilligan Creek (backwater effects from Ohio River), Ohio River, Phelps Creek (backwater effects from Ohio River), Phelps Creek Tributary 2 (backwater effects from Ohio River), Sandy Creek (backwater effects from Ohio River), Smith Creek (backwater effects from Ohio River), Snglin Creek (backwater effects from Ohio River), Sugar Creek (backwater effects from Ohio River), Sugarcamp Creek (backwater effects from Ohio River), Sugarcamp Creek Tributary 3 (backwater effects from Ohio River), the Tennessee River, and Turkey Creek (backwater effects from Ohio River).

DATES: Comments are to be submitted on or before October 27, 2011.

ADDRESSES: You may submit comments, identified by Docket No. FEMA-B-1037, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 12804, in the March 25, 2009, issue of the Federal Register, FEMA published a table under the authority of 44 CFR 67.4. The table entitled “Livingston County, Kentucky and Incorporated Areas” addressed the flooding sources Kentucky Lake, Lake Barkley, Ohio River, and Tennessee River. That table contained inaccurate information as to the location of referenced elevation, effective and modified elevation in feet, and/or communities affected for those flooding sources. In addition, it did not include the following flooding sources: Bayou Creek (backwater effects from Ohio River), Bayou Creek Tributary 20 (backwater effects from Ohio River), Bissell Creek (backwater effects from Ohio River), Buck Creek (backwater effects from Ohio River), Claylick Creek (backwater effects from Ohio River), Cooper Creek (backwater effects from Tennessee River), Cumberland River (backwater effects from Ohio River), Cypress Creek (backwater effects from Ohio River), Deer Creek (backwater effects from Ohio River), Dry Branch (backwater effects from Tennessee River), Dry Fork (backwater effects from Ohio River), Dyer Hill Creek (backwater effects from Ohio River), Ferguson Creek (backwater effects from Ohio River), Givens Creek (backwater effects from Ohio River), Guess Creek (backwater effects from Tennessee River), Guess Creek Tributary 9 (backwater effects from Tennessee River), Hickory Creek (backwater effects from Ohio River), Jones Creek (backwater effects from Tennessee River), Lee Creek (backwater effects from Tennessee River), McCormick Creek (backwater effects from Ohio River), McGilligan Creek (backwater effects from Ohio River), Phelps Creek (backwater effects from Ohio River), Phelps Creek Tributary 2 (backwater effects from Ohio River), Sandy Creek (backwater effects from Ohio River), Smith Creek (backwater effects from Ohio River), Snglin Creek (backwater effects from Ohio River), Sugar Creek (backwater effects from Ohio River), Sugarcamp Creek (backwater effects from Ohio River), Sugarcamp Creek Tributary 3 (backwater effects from Ohio River), and Turkey Creek (backwater effects from Ohio River). In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Livingston County, Kentucky, and Incorporated Areas
Bayou Creek (backwater effects from Ohio River) | From the Ohio River confluence to approximately 4.7 miles upstream of the Sugarcamp Creek confluence | None | +348 | Unincorporated Areas of Livingston County.
Bayou Creek Tributary 20 (backwater effects from Ohio River) | From the Bayou Creek confluence to approximately 1.8 miles upstream of the Bayou Creek confluence | None | +348 | Unincorporated Areas of Livingston County.
Bissell Creek (backwater effects from Ohio River) | From the Cumberland River confluence to approximately 2.9 miles upstream of the Cumberland River confluence | None | +343 | Unincorporated Areas of Livingston County.
Buck Creek (backwater effects from Ohio River) | From the Ohio River confluence to approximately 3.3 miles upstream of the Ohio River confluence | None | +355 | Unincorporated Areas of Livingston County.
Claylick Creek (backwater effects from Ohio River) | From the Cumberland River confluence to approximately 5 miles upstream of the Cumberland River confluence | None | +343 | Unincorporated Areas of Livingston County.
Cooper Creek (backwater effects from Tennessee River) | From the Tennessee River confluence to approximately 2.2 miles upstream of the Tennessee River confluence | None | +343 | Unincorporated Areas of Livingston County.
Cumberland River (backwater effects from Ohio River) | From the Ohio River confluence to approximately 2.5 miles upstream of the Cypress Creek confluence | None | +343 | City of Smithland, Unincorporated Areas of Livingston County.
Cypress Creek (backwater effects from Ohio River) | From the Cumberland River confluence to approximately 3.2 miles upstream of the Cumberland River confluence | None | +343 | Unincorporated Areas of Livingston County.
Deer Creek (backwater effects from Ohio River) | From the Ohio River confluence to approximately 1.7 miles upstream of the Turkey Creek confluence | None | +356 | Unincorporated Areas of Livingston County.
Dry Branch (backwater effects from Tennessee River) | From the Tennessee River confluence to approximately 0.6 mile upstream of the Tennessee River confluence | None | +342 | Unincorporated Areas of Livingston County.
Dry Fork (backwater effects from Ohio River) | From the Sandy Creek confluence to approximately 2.6 miles upstream of the Sandy Creek confluence | None | +343 | Unincorporated Areas of Livingston County.
Dyer Hill Creek (backwater effects from Ohio River) | From approximately 3 miles upstream of the Ohio River confluence to approximately 4.4 miles upstream of the Ohio River confluence | None | +345 | Unincorporated Areas of Livingston County.
Ferguson Creek (backwater effects from Ohio River) | From the Cumberland River confluence to approximately 2.1 miles upstream of the Cumberland River confluence | None | +343 | Unincorporated Areas of Livingston County.
Givens Creek (backwater effects from Ohio River) | From approximately 1 mile upstream of the Ohio River confluence to approximately 2.6 miles upstream of the Ohio River confluence | None | +352 | Unincorporated Areas of Livingston County.
Guess Creek (backwater effects from Tennessee River) | From the Tennessee River confluence to approximately 3.3 miles upstream of the Tennessee River confluence | None | +342 | Unincorporated Areas of Livingston County.
Guess Creek Tributary 9 (backwater effects from Tennessee River) | From the Tennessee River confluence to approximately 0.8 mile upstream of the Tennessee River confluence | None | +342 | Unincorporated Areas of Livingston County.
Hickory Creek (backwater effects from Ohio River) | From the Cumberland River confluence to approximately 3.8 miles upstream of the Cumberland River confluence | None | +343 | Unincorporated Areas of Livingston County.
Jones Creek (backwater effects from Tennessee River) | From the Cooper Creek confluence to approximately 1.8 miles upstream of the Cooper Creek confluence | None | +343 | Unincorporated Areas of Livingston County.
Kentucky Lake | Entire shoreline | None | +375 | City of Grand Rivers, Unincorporated Areas of Livingston County.
Lake Barkley | Entire shoreline | None | +375 | City of Grand Rivers, Unincorporated Areas of Livingston County.
Lee Creek (backwater effects from Tennessee River) | From the Tennessee River confluence to approximately 2 miles upstream of the Tennessee River confluence | None | +342 | Unincorporated Areas of Livingston County.
McCormick Creek (backwater effects from Ohio River) | From the Cumberland River confluence to approximately 2 miles upstream of the Cumberland River confluence | None | +343 | Unincorporated Areas of Livingston County.
McGilligan Creek (backwater effects from Ohio River) | From the Ohio River confluence to approximately 4.4 miles upstream of the Ohio River confluence | None | +350 | Unincorporated Areas of Livingston County.
Ohio River | Just upstream of the Tennessee River confluence | None | +340 | City of Carrsville, City of Smithland, Unincorporated Areas of Livingston County.
| Approximately 3,500 feet upstream of the Deer Creek confluence | None | +356
Phelps Creek (backwater effects from Ohio River) | From the Ohio River confluence to approximately 2.2 miles upstream of the Ohio River confluence | None | +346 | Unincorporated Areas of Livingston County.
Phelps Creek Tributary 2 (backwater effects from Ohio River) | From the Phelps Creek confluence to approximately 0.3 mile upstream of the Phelps Creek confluence | None | +346 | Unincorporated Areas of Livingston County.
Sandy Creek (backwater effects from Ohio River) | From the Cumberland River confluence to approximately 3 miles upstream of the Dry Fork confluence | None | +343 | Unincorporated Areas of Livingston County.
Smith Creek (backwater effects from Ohio River) | From the Cumberland River confluence to approximately 2.2 miles upstream of the Cumberland River confluence | None | +343 | Unincorporated Areas of Livingston County.
Snglin Creek (backwater effects from Ohio River) | From the Hickory Creek confluence to approximately 1,350 feet upstream of the Hickory Creek confluence | None | +343 | Unincorporated Areas of Livingston County.
Sugar Creek (backwater effects from Ohio River) | From the Cumberland River confluence to approximately 5.7 miles upstream of the Cumberland River confluence | None | +343 | Unincorporated Areas of Livingston County.
Sugarcamp Creek (backwater effects from Ohio River) | From the Bayou Creek confluence to approximately 3 miles upstream of the Bayou Creek confluence | None | +348 | Unincorporated Areas of Livingston County.
Sugarcamp Creek Tributary 3 (backwater effects from Ohio River) | From the Sugarcamp Creek confluence to approximately 1.4 miles upstream of the Sugarcamp Creek confluence | None | +348 | Unincorporated Areas of Livingston County.
Tennessee River | Approximately 5,100 feet downstream of the Hodges Creek confluence | None | +341 | Unincorporated Areas of Livingston County.
| At the downstream side of the Kentucky Dam | None | +343
Turkey Creek (backwater effects from Ohio River) | From the Deer Creek confluence to approximately 0.8 mile upstream of the Deer Creek confluence | None | +356 | Unincorporated Areas of Livingston County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Carrsville
Maps are available for inspection at the Livingston County Courthouse, 339 Courthouse Drive, Smithland, KY 42081.
City of Grand Rivers
Maps are available for inspection at City Hall, 122 West Cumberland Avenue, Grand Rivers, KY 42045.
City of Smithland
Maps are available for inspection at the City Hall, 310 Wilson Avenue, Smithland, KY 42081.
Unincorporated Areas of Livingston County
Maps are available for inspection at the Livingston County Courthouse, 339 Courthouse Drive, Smithland, KY 42081.

(Catalog of Federal Domestic Assistance No. 97.022, “Flood Insurance.”)

Dated: July 15, 2011.
Sandra K. Knight,
Deputy Federal Insurance and Mitigation Administrator, Mitigation, Department of Homeland Security, Federal Emergency Management Agency.

[FR Doc. 2011-19241 Filed 7-28-11; 8:45 am]

BILLING CODE 9110-12-P